DEPARTMENT OF DEFENSE

Office of the Secretary

[Docket ID DOD-2016-OS-0114]

Privacy Act of 1974; System of Records

AGENCY: Office of the Secretary of Defense, DoD.

ACTION: Notice to delete a System of Records.

SUMMARY: Pursuant to the Privacy Act of 1974 and Office of Management and Budget (OMB) Circular No. A-130, notice is hereby given that the Department of Defense proposes to delete a system of records, “International Affairs Personnel Initiatives Database,” last published at 75 FR 19622 on April 15, 2010. This system of records is a single central facility with the Department of Defense (DoD) that maintains and verifies information provided by individuals seeking international affairs certification based on their current experience and training.

Based on a recent review of DSCA 01, International Affairs Personnel Initiatives Database, it has been determined that this system of records is covered by system of records notice DSCA 07, Security Assistance Network (SAN) (September 22, 2016, 81 FR 65343). All records will be maintained in accordance with the DSCA 07 records retention. Therefore, DSCA 01, International Affairs Personnel Initiatives Database can be deleted.

DATES: Comments will be accepted on or before January 6, 2017. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or at the Defense Privacy, Civil Liberties, and Transparency Division Web site at http://dpcld.defense.gov/.

Dated: December 2, 2016.
Aaron Siegel,
Alternate OSD Federal Register Liaison Officer, Department of Defense.

Deletion:

DSCA 01

International Affairs Personnel Initiatives Database (April 15, 2010, 75 FR 19622)

Reason: Based on a recent review of DSCA 01, International Affairs Personnel Initiatives Database, it has been determined that this system of records is covered by system of records notice DSCA 07, Security Assistance Network (SAN) (September 22, 2016, 81 FR 65343). All records will be maintained in accordance with the DSCA 07 records retention. Therefore, DSCA 01, International Affairs Personnel Initiatives Database can be deleted.

[FR Doc. 2016-29304 Filed 12-6-16; 8:45 am]

BILLING CODE 5001-06-P